DEPARTMENT OF ENERGY

Federal Energy Regulatory Commission

Combined Notice of Filings

Take notice that the Commission has received the following Natural Gas Pipeline Rate and Refund Report filings:

Filings Instituting Proceedings

Docket Numbers: RP17-633-001.

Applicants: Millennium Pipeline Company, LLC.

Description: Millennium Pipeline Company, LLC submits tariff filing per 154.205(b): Spot Market Price Location Filing Amendment to be effective 6/1/2017.

Filed Date: 04/24/2017.

Accession Number: 20170424-5237.

Comment Date: 5:00 p.m. Eastern Time on Monday, May 08, 2017.

Docket Numbers: RP17-668-000.

Applicants: Texas Gas Transmission, LLC.

Description: Texas Gas Transmission, LLC submits tariff filing per 154.204: Cap Rel Neg Rate Agmts—CIMA ss Agmts (36088, 36105) to be effective 4/3/2017.

Filed Date: 04/24/2017.

Accession Number: 20170424-5157.

Comment Date: 5:00 p.m. Eastern Time on Monday, May 08, 2017.

Docket Numbers: RP17-669-000.

Applicants: Florida Gas Transmission Company, LLC.

Description: Florida Gas Transmission Company, LLC submits tariff filing per 154.204: Flex Fuel Filing on 4-24-17 to be effective 5/1/2017.

Filed Date: 04/24/2017.

Accession Number: 20170424-5219.

Comment Date: 5:00 p.m. Eastern Time on Monday, May 08, 2017.

Docket Numbers: RP17-670-000.

Applicants: Southern Natural Gas Company, L.L.C.

Description: Southern Natural Gas Company, L.L.C. submits tariff filing per 154.204: SNG Negotiated Rate Filing & Housekeeping Filing to be effective 6/1/2017.

Filed Date: 04/25/2017.

Accession Number: 20170425-5071.

Comment Date: 5:00 p.m. Eastern Time on Monday, May 08, 2017.

Docket Numbers: RP17-671-000.

Applicants: Equitrans, L.P.

Description: Equitrans, L.P. submits tariff filing per 154.204: Non-Conforming Negotiated Rate Service Agreement—Antero Name Change to be effective 6/10/2013.

Filed Date: 04/25/2017.

Accession Number: 20170425-5093.

Comment Date: 5:00 p.m. Eastern Time on Monday, May 08, 2017.

Docket Numbers: RP17-672-000.

Applicants: East Cheyenne Gas Storage, LLC.

Description: East Cheyenne Gas Storage, LLC submits tariff filing per 154.203: ECGS 2017 Operational Purchase & Sales.

Filed Date: 04/25/2017.

Accession Number: 20170425-5212.

Comment Date: 5:00 p.m. Eastern Time on Monday, May 08, 2017.

Docket Numbers: RP17-673-000.

Applicants: Cameron Interstate Pipeline, LLC.

Description: Annual Report of Penalty Revenues pursuant to the FERC Gas Tariff of Cameron Interstate Pipeline, LLC.

Filed Date: 04/25/2017.

Accession Number: 20170425-5251.

Comment Date: 5:00 p.m. Eastern Time on Monday, May 08, 2017.

Docket Numbers: RP17-674-000.

Applicants: Cameron Interstate Pipeline, LLC.

Description: Annual Report of Interruptible Transportation Revenue Sharing pursuant to the FERC Gas Tariff of Cameron Interstate Pipeline, LLC.

Filed Date: 04/25/2017.

Accession Number: 20170425-5252.

Comment Date: 5:00 p.m. Eastern Time on Monday, May 08, 2017.

Docket Numbers: RP17-675-000.

Applicants: Cameron Interstate Pipeline, LLC.

Description: Annual Report of Transportation Imbalances and Cash-out Activity pursuant to the FERC Gas Tariff of Cameron Interstate Pipeline, LLC.

Filed Date: 04/25/2017.

Accession Number: 20170425-5253.

Comment Date: 5:00 p.m. Eastern Time on Monday, May 08, 2017.

Docket Numbers: RP17-676-000.

Applicants: Cameron Interstate Pipeline, LLC.

Description: Annual Report of Operational Imbalances and Cash-out Activity pursuant to the FERC Gas Tariff of Cameron Interstate Pipeline, LLC.

Filed Date: 04/25/2017.

Accession Number: 20170425-5254.

Comment Date: 5:00 p.m. Eastern Time on Monday, May 08, 2017.

Docket Numbers: RP17-677-000.

Applicants: Florida Southeast Connection, LLC.

Description: Florida Southeast Connection, LLC submits tariff filing per 154.202: Baseline Tariff Filing to be effective 5/31/2017.

Filed Date: 04/25/2017.

Accession Number: 20170425-5279.

Comment Date: 5:00 p.m. Eastern Time on Monday, May 08, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2017.
Kimberly D. Bose,
Secretary.

[FR Doc. 2017-09117 Filed 5-4-17; 8:45 am]

BILLING CODE 6717-01-P